DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 20, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: October 30, 2015.
Roy E. Wright,
Deputy Associate Administrator for Insurance and Mitigation, Department of Homeland Security, Federal Emergency Management Agency.

Community | Community map repository address
Amador County, California, and Incorporated Areas
Docket No.: FEMA-B-1445
City of Ione | Department of Public Works, 1 East Main Street, Ione, CA 95460.
Unincorporated Areas of Amador County | Amador County Department of Public Works, 810 Court Street, Jackson, CA 95642.
Fresno County, California, and Incorporated Areas
Docket No.: FEMA-B-1445
Unincorporated Areas of Fresno County | Fresno County Recorder's Office, 2281 Tulare Street, Room 302, Fresno, CA 93721.
Adams County, Colorado, and Incorporated Areas
Docket No.: FEMA-B-1418
City of Northglenn | 11701 Community Center Drive, Northglenn, CO 80233.
City of Thornton | 12450 Washington Street, Thornton, CO 80241.
Unincorporated Areas of Adams County | 4430 South Adams County Parkway, Suite W2000B, Brighton, CO 80601.
City and County of Broomfield, Colorado
Docket No.: FEMA-B-1418
City and County of Broomfield | City Hall, Engineering Department, One Descombes Drive, Broomfield, CO 80020.
Jefferson County, Colorado, and Incorporated Areas
Docket No.: FEMA-B-1418
City of Arvada | Engineering Department, 8101 Ralston Road, Arvada, CO 80001.
City of Westminster | 4800 West 92nd Avenue, Westminster, CO 80031.
Unincorporated Areas of Jefferson County | Jefferson County Department of Planning and Zoning, 100 Jefferson County Parkway, Suite 3550, Golden, CO 80419.
Weld County, Colorado, and Incorporated Areas
Docket No.: FEMA-B-1427
City of Dacono | City Hall, 512 Cherry Street, Dacono, CO 80514.
City of Evans | City Hall, 110 37th Street, Evans, CO 80620.
City of Fort Lupton | City Hall, 130 South McKinley Avenue, Fort Lupton, CO 80621.
City of Greeley | City Hall, 1000 10th Street, Greeley, CO 80631.
Town of Ault | Town Hall, 201 1st Street, Ault, CO 80610.
Town of Eaton | Town Hall, 223 1st Street, Eaton, CO 80615.
Town of Firestone | Town Hall, 151 Grant Avenue, Firestone, CO 80520.
Town of Frederick | Town Hall, 401 Locust Street, Frederick, CO 80530.
Town of Gilcrest | Town Hall, 304 8th Street, Gilcrest, CO 80623.
Town of Hudson | Town Hall, 557 Ash Street, Hudson, CO 80642.
Town of Keenesburg | Town Hall, 140 South Main Street, Keenesburg, CO 80643.
Town of La Salle | Town Hall, 128 North 2nd Street, La Salle, CO 80645.
Town of Mead | Town Hall, 441 3rd Street, Mead, CO 80542.
Town of Milliken | Town Hall, 1101 Broad Street, Milliken, CO 80543.
Town of Nunn | Town Hall, 185 Lincoln Avenue, Nunn, CO 80648.
Town of Pierce | Town Hall, 240 Main Street, Pierce, CO 80650.
Town of Platteville | Town Hall, 400 Grand Avenue, Platteville, CO 80651.
Town of Severance | Town Hall, 231 West 4th Avenue, Severance, CO 80546.
Town of Windsor | Town Hall, 301 Walnut Street, Windsor, CO 80550.
Unincorporated Areas of Weld County | Weld County Commissioner's Office, 915 10th Street, Greeley, CO 80632.
Outagamie County, Wisconsin, and Incorporated Areas
Docket No.: FEMA-B-1299
City of Appleton | City Hall, 100 North Appleton Street, Appleton, WI 54911.
Unincorporated Areas of Outagamie County | County Building, 410 South Walnut Street, Appleton, WI 54911.

[FR Doc. 2015-30049 Filed 11-24-15; 8:45 am]

BILLING CODE 9110-12-P